DEPARTMENT OF LABOR

Mine Safety and Health Administration

Notice of Affirmative Decisions on Petitions for Modification Granted in Whole or in Part

AGENCY: Mine Safety and Health Administration (MSHA), Labor.

ACTION: Notice of affirmative decisions on petitions for modification granted in whole or in part.

SUMMARY: The Mine Safety and Health Administration (MSHA) enforces mine operator compliance with mandatory safety and health standards that protect miners and improve safety and health conditions in U.S. mines. This Federal Register Notice (FR Notice) notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Acting Deputy Director, Office of Standards, Regulations and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2008-047-C

FR Notice: 73 FR 69680 (November 19, 2008).

Petitioner: Knight Hawk Coal, LLC, 7290 County Line Road, Cutler, Illinois 62238.

Mine: Prairie Eagle Underground Mine, MSHA I.D. No. 11-03147, located in Perry County, Illinois.

Regulation Affected: 30 CFR 75.1101-1(b) (Deluge-type water spray systems).

• Docket Number: M-2009-008-C

FR Notice: 73 FR 23745 (May 20, 2009).

Petitioner: Excel Mining, LLC, Box 4126, State Highway 194 West, Pikeville, Kentucky 41501.

Mine: Mine No. 3, MSHA I.D. No. 15-08079, located in Pike County, Kentucky.

Regulation Affected: 30 CFR 75.503 (18.35) (Permissible electric face equipment; maintenance).

• Docket Number: M-2009-012-C

FR Notice: 74 FR 23746 (May 20, 2009).

Petitioner: Wolf Run Mining Company, 1 Edmiston Way, Buckhannon, West Virginia 26201.

Mine: Imperial Mine, MSHA I.D. No. 46-09115, located in Upshur County, West Virginia.

Regulation Affected: 30 CFR 75.1101-1(b) (Deluge-type water spray systems).

• Docket Number: M-2009-013-C

FR Notice: 74 FR 27185 (June 8, 2009).

Petitioner: Wolf Run Mining Company, Rt. 3, Box 146, Philippi, West Virginia 26416.

Mine: Sentinel Mine, MSHA I.D. No. 46-04168, located in Barbour County, West Virginia.

Regulation Affected: 30 CFR 75.1101-1(b) (Deluge-type water spray systems).

• Docket Number: M-2009-003-M

FR Notice: 74 FR 27186 (June 8, 2009).

Petitioner: Resolution Copper Mining, LLC, 102 Magma Heights, P.O. Box 1944, Superior, Arizona 85273.

Mine: Resolution Copper Mine, MSHA I.D. No. 02-00152, located in Pinal County, Arizona.

Regulation Affected: 30 CFR 57.15031 (Location of self-rescue devices).

Dated: March 26, 2010.
Patricia W. Silvey,
Director, Office of Standards, Regulations and Variances.

[FR Doc. 2010-7196 Filed 3-30-10; 8:45 am]

BILLING CODE 4510-43-P